DEPARTMENT OF TRANSPORTATION

Federal Highway Administration

23 Parts 655 and 940

[FHWA Docket No. FHWA-99-5899]

RIN 2125-AE65

Intelligent Transportation System Architecture and Standards

AGENCY: Federal Highway Administration (FHWA), DOT.

ACTION: Notice of proposed rulemaking (NPRM); extension of comment period.

SUMMARY: This document extends this rulemaking's comment period until September 23, 2000. This is in response to numerous letters received from State departments of transportation, transit operators, and metropolitan planning organizations requesting an extension of the comment period from the closing date. These groups based their request on the time required to assess the impact of this rule on the nation's highway and transit systems and provide meaningful comments.

DATES: Comments to the NPRM should be received no later than September 23, 2000. Late comments will be considered to the extent practicable.

ADDRESSES: Signed, written comments must refer to the docket number appearing at the top of this document and must be submitted to the Docket Clerk, U.S. DOT Dockets, Room PL-401, 400 Seventh Street, S.W., Washington, D.C. 20590-0001. All comments received will be available for examination at the above address between 9 a.m. and 5 p.m., e.t., Monday through Friday, except Federal holidays. Those desiring notification of receipt of comments must include a self-addressed, stamped envelope or postcard.

FOR FURTHER INFORMATION CONTACT: Mr. Michael Freitas, Intelligent Transportation Systems Joint Program Office (HOIT-1), (202) 366-9292; Mr. Robert Rupert, Office of Travel Management (HOTM-1), (202) 366-2194; or Mr. Wilbert Baccus, Office of the Chief Counsel (HCC-32), (202) 366-1346, Federal Highway Administration, 400 Seventh Street, SW., Washington, D.C. 20590. Office hours are from 8 a.m. to 4:30 p.m., e.t., Monday through Friday, except Federal holidays.

SUPPLEMENTARY INFORMATION:

Electronic Access

Internet users may access all comments received by the U.S. DOT Dockets, Room PL-401, by using the universal resource locator (URL):­ http://dms.dot.gov. It is available 24 hours each day, 365 days each year. Please follow the instructions online for more information and help.

An electronic copy of this document may be downloaded by using a computer, modem, and suitable communications software from the Government Printing Office's Electronic Bulletin Board Service at (202) 512-1661. Internet users may reach the Office of the Federal Register's home page at http://www.nara.gov/fedreg and the Government Printing Office's web page at http://www.access.gpo.gov/nara.

The document may also be viewed at the DOT's intelligent transportation systems (ITS) home page at http://www.its.dot.gov.

Background

On May 25, 2000 (65 FR 33994), the FHWA published an NPRM proposing the establishment of regulations to implement a portion of section 5206(e) of the Transportation Equity Act for the 21st Century (TEA-21) (Public Law 105-178, 112 Stat. 107) which requires ITS projects funded from the highway trust fund to conform to the National ITS Architecture, applicable or provisional standards, and protocols.

The DOT has received requests from the American Association of State Highway and Transportation Officials, the American Public Transportation Association, the Association of Metropolitan Planning Organizations, and several State departments of transportation to extend the comment period. These groups voiced concerns that the proposed rule was extremely complex and that 90 days was insufficient time to assess the impact of the proposed rules and provide meaningful comments. We agree that more time for an in-depth analysis of the NPRM would be beneficial to the FHWA in this rulemaking. For these reasons the FHWA finds good cause to extend this NPRM comment period closing date by 30 days.

Authority: 23 U.S.C. 101, 109, 315, and 508; sec. 5206(e), Pub. L. 105-178; 112 Stat. 457 (23 U.S.C. 502 note); and 49 CFR 1.48.

Issued on: July 17, 2000.
Kenneth R. Wykle,
Federal Highway Administrator.

[FR Doc. 00-18916 Filed 7-25-00; 8:45 am]

BILLING CODE 4910-22-P